DEPARTMENT OF AGRICULTURE

Submission for OMB Review; Comment Request

April 21, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, D.C. 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Electronic Mailing List Subscription Form—Water Quality Information Center.

OMB Control Number: 0518-0045.

Summary of Collection: The National Agricultural Library's Water Quality Information Center (WQIC) currently maintains an on-line announcement list. The current voluntary “Electronic Mailing List Subscription Form” gives individuals interested in the subject area of water quality and agriculture an opportunity to receive and post messages to this list. The Electronic Mailing List Subscription is available for completion on-line at the web site of the Water Quality Information Center. The authority for the National Agricultural Library to collect the information can be found at CFR, Title 7, Volume 1, Part 2 Subpart K, Section 2.65 (92).

Need and Use of the Information: The information requested on the form includes: name, e-mail address, job title, work affiliation, and topics of interest. Data collected using the form will help WQIC determine a person's eligibility to join the announcement list. In order to make sure people have a significant interest in the topic area, it is necessary to collect the information. WQIC will use the collected information to approve subscription to the Enviro-News on-line announcement list.

Description of Respondents: Individuals or households; Business or other for-profit; Not-for-profit institutions; Federal Government; State, Local, or Tribal Government.

Number of Respondents: 60.

Frequency of Responses: Reporting: On occasion.

Total Burden Hours: 1.

Ruth Brown,
Departmental Information Collection Clearance Officer.

[FR Doc. E9-9438 Filed 4-23-09; 8:45 am]

BILLING CODE 3410-03-P